DEPARTMENT OF DEFENSE

Department of the Army, Corps of Engineers

RIN 0710-ZA04

Proposed Suspension and Modification of Nationwide Permit 21

AGENCY: United States Army Corps of Engineers, Department of Defense,

ACTION: Notice; extension of comment period.

SUMMARY: In the July 15, 2009, issue of the Federal Register (74 FR 34311) the U.S. Army Corps of Engineers published a proposal to take two actions concerning Nationwide Permit 21, which authorizes discharges of dredged or fill material into waters of the United States for surface coal mining activities. The two proposed actions are to suspend NWP 21 to prohibit its use to authorize surface coal mining activities in the Appalachian region of Kentucky, Ohio, Pennsylvania, Tennessee, Virginia, and West Virginia, and then to modify NWP 21 to make that prohibition permanent until NWP 21 expires on March 18, 2012. The July 15, 2009, notice stated that public comments and any requests for a public hearing must be received by August 14, 2009. We have received several requests to extend the comment period. We are extending the comment period to September 14, 2009.

DATES: Comments must be received by September 14, 2009.

ADDRESSES: You may submit comments, identified by docket number COE-2009-0032, by any of the following methods:

Federal eRulemaking Portal: http://www.regulations.gov. Follow the instructions for submitting comments.

Mail: U.S. Army Corps of Engineers, Attn: CECW-CO (Attn: Ms. Desiree Hann), 441 G Street, NW., Washington, DC 20314-1000.

Hand Delivery/Courier: Due to security requirements, we cannot receive comments by hand delivery or courier.

We will not accept e-mailed or faxed comments. We will post all comments on http://www.regulations.gov under docket number COE-2009-0032.

FOR FURTHER INFORMATION CONTACT: Ms. Desiree Hann or Mr. David Olson, Headquarters, Operations and Regulatory Community of Practice, Washington, DC. Ms. Hann can be reached at 202-761-4560 and Mr. Olson can be reached at 202-761-4922.

SUPPLEMENTARY INFORMATION: In the July 15, 2009, issue of the Federal Register (74 FR 34311) the U.S. Army Corps of Engineers published a proposal to take two actions concerning Nationwide Permit 21, which authorizes discharges of dredged or fill material into waters of the United States for surface coal mining activities.

First, the Corps proposes to modify NWP 21 to prohibit its use to authorize discharges of dredged or fill material into waters of the United States for surface coal mining activities in the Appalachian region of the following states: Kentucky, Ohio, Pennsylvania, Tennessee, Virginia, and West Virginia until it expires on March 18, 2012. The proposed modification would enhance environmental protection of aquatic resources by requiring surface coal mining projects in the affected region to obtain individual permit coverage under the Clean Water Act, which includes increased public and agency involvement in the permit review process, including an opportunity for public comment on individual projects.

Second, the Corps is proposing to suspend NWP 21 to provide an interim means of requiring individual permit reviews in Appalachia, while proposing to undertake the longer-term measure of modifying NWP 21 to prohibit its use to authorize discharges of dredged or fill material into waters of the United States associated with surface coal mining activities in the Appalachian region of these six States. The Corps is also proposing to suspend NWP 21 to provide immediate environmental protection while it evaluates the comments received in response to the proposal to modify NWP 21.

The application of NWP 21 to surface coal mining activities in the rest of the United States would not be affected by this proposed modification or the proposed suspension.

Several entities have requested an extension of the comment period for the proposed rule. We have determined that a 30-day extension of the comment period for this proposed rule is warranted. Therefore, the comment period for these proposed actions is extended until September 14, 2009.

Dated: August 10, 2009. Approved By:
Jonathan A. Davis,
Deputy Chief, Operations, Directorate of Civil Works.

[FR Doc. E9-19446 Filed 8-12-09; 8:45 am]

BILLING CODE 3710-92-P